DEPARTMENT OF ENERGY

Federal Energy Regulatory Commission

[Project No. 3043-016]

Arkansas Electric Cooperative Corporation and The Bank of New York Mellon, as Owner Trustee; Notice of Application for Partial Transfer of License, and Soliciting Comments and Motions To Intervene

On October 27, 2011, Arkansas Electric Cooperative Corporation (AECC) and The Bank of New York Mellon, as Owner Trustee (co-licensee) filed an application for transfer of license for the Arkansas River Lock and Dam No. 13, Hydroelectric Project No. 3043, located on the Arkansas River in Crawford County, Arkansas.

Applicants seek Commission approval to transfer the license for the Arkansas River Lock and Dam No. 13 Hydroelectric Project from The Bank of New York Mellon, as Owner Trustee, co-licensee to AECC as sole licensee.

Applicants' Contact: AECC: Robert M. Lyford, Senior Vice President and General Counsel, Arkansas Electric Cooperative Corporation, P.O. Box 194208, Little Rock, AR 72219-4208, (501) 570-2268 and Sean T. Beeny, Jeffrey K. Janike, Miller, Balis & O'Neill, P.C., 1015 15th Street, NW., 12th Floor, Washington, DC 20005, (202) 296-2960. Co-licensee: The Bank of New York Mellon, c/o the Bank of Mellon Trust Company, N.A., 700 South Flower Street, Suite 500, Los Angeles, CA 90019, Attention: Corporate Unit.

FERC Contact: Patricia W. Gillis (202) 502-8735, patricia.gillis@ferc.gov.

Deadline for filing comments and motions to intervene: 20 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-3043) in the docket number field to access the document. For assistance, call toll-free 1-(866) 208-3372.

Dated: November 7, 2011.
Kimberly D. Bose,
Secretary.

[FR Doc. 2011-29353 Filed 11-14-11; 8:45 am]

BILLING CODE 6717-01-P